DEPARTMENT OF LABOR

Employment and Training Administration

[TA-W-39,551]

Rohm and Haas Specialty Chemical Division, Paterson, New Jersey; Dismissal of Application for Reconsideration

Pursuant to 29 CFR 90.18(C) an application for administrative reconsideration was filed with the Director of the Division of Trade Adjustment Assistance for workers at Rohm and Haas, Specialty Chemical Division, Paterson, New Jersey. The application contained no new substantial information which would bear importantly on the Department's determination. Therefore, dismissal of the application was issued.

TA-W-39,551; Rohm and Haas, Specialty Chemical Division, Paterson, New Jersey (January 24, 2002)

Signed at Washington, DC, this 24th day of January, 2002.
Edward A. Tomchick,
Director, Division of Trade Adjustment Assistance.

[FR Doc. 02-2684 Filed 2-4-02; 8:45 am]

BILLING CODE 4510-30-M